CONSUMER PRODUCT SAFETY COMMISSION

Sunshine Act Meeting

TIME AND DATE: Wednesday, January 25, 2023; 11:30 a.m.

PLACE: The meeting will be held remotely.

STATUS: Commission Meeting—Closed to the Public.

MATTERS TO BE CONSIDERED: Briefing Matter.

CONTACT PERSON FOR MORE INFORMATION: Alberta E. Mills, Office of the Secretary, U.S. Consumer Product Safety Commission, 4330 East West Highway, Bethesda, MD 20814, 301-504-7479 (Office) or 240-863-8938 (Cell).

Dated: January 24, 2023.
Alberta E. Mills,
Commission Secretary.

[FR Doc. 2023-01770 Filed 1-25-23; 11:15 am]

BILLING CODE 6355-01-P